DEPARTMENT OF TRANSPORTATION

Federal Aviation Administration

14 CFR Part 39

[Docket No. 2001-NM-280-AD; Amendment 39-13232; AD 2003-14-13]

RIN 2120-AA64

Airworthiness Directives; Aerospatiale Model ATR42 Series Airplanes and Model ATR72 Series Airplanes

AGENCY: Federal Aviation Administration, DOT.

ACTION: Final rule.

SUMMARY: This amendment adopts a new airworthiness directive (AD), applicable to certain Aerospatiale Model ATR42-200, -300, -320, and -500 series airplanes; and Model ATR72 series airplanes; that requires replacement of a certain Automatic Takeoff Power Control System (ATPCS) test selector switch with a different test selector switch. This action is necessary to prevent shorting of a contact in the ATPCS test selector switch due to abnormal wear of contact surfaces, which could result in dual engine power drop with associated loss of both alternating current wild and main hydraulic power during ground maneuvers, and consequent reduced controllability of the airplane and increased flightcrew workload. This action is intended to address the identified unsafe condition.

DATES: Effective August 22, 2003.

The incorporation by reference of certain publications listed in the regulations is approved by the Director of the Federal Register as of August 22, 2003.

ADDRESSES: The service information referenced in this AD may be obtained from Aerospatiale, 316 Route de Bayonne, 31060 Toulouse, Cedex 03, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Aerospatiale Model ATR42-200, -300, -320, and -500 series airplanes; and Model ATR72 series airplanes; was published in the Federal Register on April 1, 2003 (68 FR 15682). That action proposed to require replacement of a certain Automatic Takeoff Power Control System (ATPCS) test selector switch with a different test selector switch.

Comments

Interested persons have been afforded an opportunity to participate in the making of this amendment. No comments were submitted in response to the proposal or the FAA's determination of the cost to the public.

Conclusion

The FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate

After the proposed AD was issued, we reviewed the figures we use to calculate the labor rate to do the required actions. To account for various inflationary costs in the airline industry, we find it appropriate to increase the labor rate used in these calculations from $60 per work hour to $65 per work hour. The economic impact information, below, has been revised to reflect this increase in the specified hourly labor rate.

Cost Impact

The FAA estimates that 133 airplanes of U.S. registry will be affected by this AD, that it will take approximately 4 work hours per airplane to accomplish the required replacement, and that the average labor rate is $65 per work hour. Required parts will cost approximately $536 per airplane. Based on these figures, the cost impact of the AD on U.S. operators is estimated to be $105,868, or $796 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-14-13 Aerospatiale: Amendment 39-13232. Docket 2001-NM-280-AD.

Applicability: Model ATR42-200, -300, -320, and -500 series airplanes; and Model ATR72 series airplanes; certificated in any category; equipped with IPP JANCO Automatic Takeoff Power Control System (ATPCS) test selector switch, part number (P/N) ACE 0002; except those airplanes having received modification 5162 in production and on which no replacement of the ATPCS test selector switch has been performed afterwards.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent shorting of a contact in the ATPCS test selector switch due to abnormal wear of contact surfaces, which could result in dual engine power drop with associated loss of both alternating current wild and main hydraulic power during ground maneuvers, and consequent reduced controllability of the airplane and increased flightcrew workload, accomplish the following:

Replacement

(a) Within 5 years after the effective date of this AD, replace the IPP JANCO ATPCS test selector switch having P/N ACE 0002 on panel 114VU (FIN 22KF) with an IEC Electronique test selector switch having P/N 097-037-00, per Avions de Transport Regional Service Letter ATR42-61-5012 (for Model ATR42 series airplanes) or ATR72-61-6008 (for Model ATR72 series airplanes), both dated April 23, 2002; as applicable.

Parts Installation

(b) As of the effective date of this AD, no person shall install an IPP JANCO ATPCS test selector switch, P/N ACE 0002, on any airplane.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Avions de Transport Regional Service Letter ATR42-61-5012, dated April 23, 2002; or Avions de Transport Regional Service Letter ATR72-61-6008, dated April 23, 2002; as applicable. This incorporation by reference was approved by the Director of the Federal Register in accordance with 5 U.S.C. 552(a) and 1 CFR part 51. Copies may be obtained from Aerospatiale, 316 Route de Bayonne, 31060 Toulouse, Cedex 03, France. Copies may be inspected at the FAA, Transport Airplane Directorate, 1601 Lind Avenue, SW., Renton, Washington; or at the Office of the Federal Register, 800 North Capitol Street, NW., suite 700, Washington, DC.

Note 3: The subject of this AD is addressed in French airworthiness directives 2001-214-084(B) and 2001-215-057(B), both dated May 30, 2001.

Effective Date

(f) This amendment becomes effective on August 22, 2003.

Issued in Renton, Washington, on July 8, 2003.
Ali Bahrami,
Acting Manager, Transport Airplane Directorate, Aircraft Certification Service.

[FR Doc. 03-17773 Filed 7-17-03; 8:45 am]

BILLING CODE 4910-13-P